DEPARTMENT OF THE TREASURY

Agency Information Collection Activities; Submission for OMB Review; Comment Request; Multiple Financial Crimes Enforcement Network Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before May 29, 2018 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8142, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Financial Crimes Enforcement Network (FinCEN)

1. Title: Suspicious Activity Report by Depository Institutions.

OMB Control Number: 1506-0001.

Type of Review: Extension without change of a currently approved collection.

Abstract: Under 31 CFR 1020.320, FinCEN requires depository institutions, to report on a consolidated form, to a single location, reports of suspicious transactions. The form is used by criminal investigators, and taxation and regulatory enforcement authorities, during the course of investigations involving financial crimes. This action renews the regulation only.

Form: FinCEN 111.

Affected Public: Businesses or other for-profits.

Estimated Total Annual Burden Hours: 1.

2. Title: Currency Transaction Reports.

OMB Control Number: 1506-0004.

Type of Review: Extension without change of a currently approved collection.

Abstract: Financial institutions file Form 112 (See 1506-0064) for currency transactions in excess of $10,000 a day pursuant to 31 U.S.C. 5313(a) and 31 CFR 1010.311a)(b). The form is used by criminal investigators, and taxation and regulatory enforcement authorities, during the course of investigations involving financial crimes. This action renews the regulation only.

Form: FinCEN Form 112.

Affected Public: Businesses or other for-profits.

Estimated Total Annual Burden Hours: 1.

3. Title: Suspicious Activity Report by Insurance Companies.

OMB Control Number: 1506-0029.

Type of Review: Extension without change of a currently approved collection.

Abstract: 31 CFR 1025.320 requires insurance companies to report suspicious activities to the Financial Crimes Enforcement Network. FinCEN Form 111 is an aid to this required reporting providing the filer with a guide in completing this reporting requirement. The form is used by criminal investigators, and taxation and regulatory enforcement authorities, during the course of investigations involving financial crimes. This action renews the regulation only.

Form: FinCEN 111.

Affected Public: Businesses or other for-profits.

Estimated Total Annual Burden Hours: 1.

Authority: 44 U.S.C. 3501 et seq.

Dated: April 23, 2018.
Spencer W. Clark,
Treasury PRA Clearance Officer.

[FR Doc. 2018-08770 Filed 4-25-18; 8:45 am]

BILLING CODE 4810-02-P